INTERNATIONAL TRADE COMMISSION

[Inv. No. 337-TA-435]

In the Matter of Certain Integrated Repeaters, Switches, Transceivers and Products Containing Same; Notice of Rescission of Limited Exclusion Order

AGENCY: U.S. International Trade Commission.

ACTION: Notice.

SUMMARY: Notice is hereby given that the U.S. International Trade Commission has rescinded the limited exclusion order issued in this investigation.

FOR FURTHER INFORMATION CONTACT: Andrea Casson, Esq., Office of the General Counsel, U.S. International Trade Commission, 500 E Street, SW., Washington, DC 20436, telephone (202) 205-3105. Copies of all nonconfidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: On September 5, 2001, the Commission determined not to review a final initial determination finding that respondent Altima Communications, Inc. (“Altima”) violated section 337 of the Tariff Act of 1930 in the unlawful importation and sale of certain integrated repeaters covered by various claims of U.S. Patent No. 5,894,410 and U.S. Patent No. 5,742,603, owned by complainant Intel Corporation (“Intel”). On October 24, 2001, the Commission issued a limited exclusion order excluding from entry for consumption into the United States the infringing articles. The President did not disapprove the Commission's determination. See 19 U.S.C. 1337(j)(4).

On August 14, 2003, Intel filed with the Commission a Petition for Rescission of Exclusion Order based on a settlement agreement between Intel and Broadcom Corporation (“Broadcom”), Altima's parent. On August 19, 2003, Altima and Broadcom filed a response, stating that they join in the petition and request rescission. No party opposed the petition. The Commission found that the requirements of Commission rules 210.76(a)(1) and 210.76(a)(2), 19 CFR 210.76(a)(1) and (a)(2), were satisfied, and determined to grant the petition for rescission.

This action is taken under the authority of section 337 of the Tariff Act of 1930, 19 U.S.C. 1337(k), and section 210.76(a) of the Commission's Rules of Practice and Procedure, 19 CFR 210.76(a).

Issued: August 21, 2003.
By order of the Commission.
Marilyn R. Abbott,
Secretary.

[FR Doc. 03-21851 Filed 8-26-03; 8:45 am]

BILLING CODE 7020-02-P